DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate and Notice of Availability of Final Findings.

SUMMARY: The NOAA Office of Ocean and Coastal Resource Management (OCRM) announces its intent to evaluate the performance of the Texas Coastal Management Program.

The Coastal Zone Management Program evaluation will be conducted pursuant to section 312 of the Coastal Zone Management Act of 1972, as amended (CZMA) and regulations at 15 CFR Part 923, Subpart L. The CZMA requires continuing review of the performance of states with respect to coastal program implementation. Evaluation of a Coastal Management Program requires findings concerning the extent to which a state has met the national objectives, adhered to its Coastal Management Program document approved by the Secretary of Commerce, and adhered to the terms of financial assistance awards funded under the CZMA.

Each evaluation will include a site visit, consideration of public comments, and consultations with interested Federal, State, and local agencies and members of the public. Two public meetings will be held as part of the site visit. Notice is hereby given of the dates of the site visit for the listed evaluation, and the dates, local times, and locations of the public meetings during the site visit.

Date and Time: The Texas Coastal Management Program evaluation site visit will be held December 4-8, 2006. Two public meetings will be held during the week. The first public meeting will be held on Tuesday, December 5, 2006, at 5:30 p.m. at the Club Padre, 5800 Padre Boulevard, South Padre Island, Texas. The second public meeting will be held on Thursday, December 7, 2006, at 1 p.m. at the Stephen F. Austin Building, Room 170, 1700 North Congress Avenue, Austin, Texas.

ADDRESSES: Copies of a State's most recent performance reports, as well as OCRM's evaluation notification and supplemental information request letters to the state, are available upon request from OCRM. Written comments from interested parties regarding this Program are encouraged and will be accepted until 15 days after the last public meeting held for the Program. Please direct written comments to Ralph Cantral, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the Puerto Rico, North Carolina, and American Samoa Coastal Management Programs (CMPs) and the ACE Basin (South Carolina), North Inlet/Winyah Bay (South Carolina), Kachemak Bay (Alaska), and the Tijuana River (California) National Estuarine Research Reserves (NERRs). Sections 312 and 315 of the Coastal Zone Management Act of 1972 (CZMA), as amended, require a continuing review of the performance of coastal states with respect to approval of CMPs and the operation and management of NERRs.

The Commonwealth of Puerto Rico, the State of North Carolina, and the Territory of American Samoa were found to be implementing and enforcing their federally approved coastal management programs, addressing the national coastal management objectives identified in CZMA Section 303(2)(A)-(K), and adhering to the programmatic terms of their financial assistance awards. The ACE Basin (South Carolina), North Inlet/Winyah Bay (South Carolina), Kachemak Bay (Alaska), and the Tijuana River (California) NERRs were found to be adhering to programmatic requirements of the NERR System.

Copies of these final evaluation findings may be obtained upon written request from: Ralph Cantral, Chief, National Policy and Evaluation Division, Office of Ocean and Coastal Resource Management, NOS/NOAA, 1305 East-West Highway, 10th Floor, N/ORM7, Silver Spring, Maryland 20910, or Ralph.Cantral@noaa.gov.

FOR FURTHER INFORMATION CONTACT: Ralph Cantral, Chief, National Policy and Evaluation Division, Office of Ocean and Coastal Resource Management, NOS/NOAA, 1305 East-West Highway, 10th Floor, N/ORM7, Silver Spring, Maryland 20910, (301)563-7118.

Federal Domestic Assistance Catalog 11.419: Coastal Zone Management Program Administration.

Dated: October 18, 2006.
Elizabeth R. Scheffler,
Associate Assistant Administrator, for Management, Ocean Services and Coastal Zone Management.

[FR Doc. E6-17750 Filed 10-23-06; 8:45 am]

BILLING CODE 3510-08-P